DEPARTMENT OF THE TREASURY

Office of Foreign Assets Control

Unblocking of One Specially Designated Terrorist Pursuant to Executive Order 12947

AGENCY: Office of Foreign Assets Control, Treasury.

ACTION: Notice.

SUMMARY: The Treasury Department's Office of Foreign Assets Control (“OFAC”) is removing the name of one of individual, whose property and interests in property have been blocked pursuant to Executive Order 12947 of January 25, 1995, Blocking Property and Prohibiting Transactions With Persons Who Threaten to Disrupt the Middle East Peace Process, from the list of Specially Designated Nationals and Blocked Persons (“SDN List”).

DATES: The removal of this individual from the SDN List is effective as of Tuesday, November 22, 2011.

FOR FURTHER INFORMATION CONTACT: Assistant Director, Sanctions Compliance and Evaluation, Office of Foreign Assets Control, Department of the Treasury, Washington, DC 20220, tel.: 202/622-2490.

SUPPLENTARY IMFORMATION:

Electronic and Facsimile Availability

The SDN List and additional information concerning OFAC are available from OFAC's Web site (http://www.treasury.gov/ofac). Certain general information pertaining to OFAC's sanctions programs also is available via facsimile through a 24-hour fax-on-demand service, tel.: 202/622-0077.

Background

On January 25, 1995, the President issued Executive Order 12947 (the “Order”) pursuant to the International Emergency Economic Powers Act, 50 U.S.C. 1701-1706, imposing economic sanctions on persons who threaten to disrupt the Middle East peace process. The President identified in the Annex to the Order various individuals and entities as subject to the economic sanctions. The Order authorizes the Secretaries of State and of the Treasury, in coordination with each other and with the Attorney General, to designate additional persons determined to meet certain criteria set forth in the Order.

The Department of the Treasury's Office of Foreign Assets Control has determined that this individual should be removed from the SDN List.

The following individual is removed from the SDN List:

Individual

1. MUGHNIYAH, Imad Fa'iz (a.k.a. MUGHNIYAH, Imad Fayiz); DOB 07 Dec 1962; POB Tayr Dibba, Lebanon; Passport 432298 (Lebanon); Senior Intelligence Officer of HIZBALLAH (individual)[SDT]

The removal of this individual from the SDN List is effective as of Tuesday, November 22, 2011. All property and interests in property of the individual that are in or hereafter come within the United States or the possession or control of United States persons are now unblocked.

Dated: November 21, 2011.
Adam J. Szubin,
Director, Office of Foreign Assets Control.

[FR Doc. 2011-30614 Filed 11-28-11; 8:45 am]

BILLING CODE P